DEPARTMENT OF ENERGY

Federal Energy Regulatory Commission

Combined Notice of Filings #1

Take notice that the Commission received the following electric corporate filings:

Docket Numbers: EC11-119-004.

Applicants: Gabelli, Mario J., GGCP, Inc., GGCP Holdings, LLC, GAMCO Investors, Inc.

Description: Request for Reauthorization and Extension of Blanket Authorizations Under Section 203 of the Federal Power Act of Mario J. Gabelli, et al.

Filed Date: 3/4/24.

Accession Number: 20240304-5193.

Comment Date: 5 p.m. ET 4/9/24.

Docket Numbers: EC24-60-000.

Applicants: American Electric Power Company, Inc.

Description: Application for Authorization Under Section 203 of the Federal Power Act of American Electric Power Company, Inc.

Filed Date: 3/15/24.

Accession Number: 20240315-5306.

Comment Date: 5 p.m. ET 4/5/24.

Docket Numbers: EC24-61-000.

Applicants: Censtar Energy, Censtar Operating Co., Electricity Maine, Electricity NH, Hiko Energy, Major Energy Electric Serv, Oasis Power, Perigee Energy, Provider Power Mass, Respond Power, Spark Energy, Verde Energy USA, Verde Energy USA NY, Verde En Trading.

Description: Joint Application for Authorization Under Section 203 of the Federal Power Act of Censtar Energy Corp., et al.

Filed Date: 3/18/24.

Accession Number: 20240318-5273.

Comment Date: 5 p.m. ET 4/8/24.

Docket Numbers: EC24-62-000.

Applicants: Hecate Energy Johanna Facility LLC, Jicarilla Solar 2 LLC.

Description: Joint Application for Authorization Under Section 203 of the Federal Power Act of Hecate Energy Johanna Facility LLC, et al.

Filed Date: 3/19/24.

Accession Number: 20240319-5090.

Comment Date: 5 p.m. ET 4/9/24.

Take notice that the Commission received the following exempt wholesale generator filings:

Docket Numbers: EG24-138-000.

Applicants: Franklin Solar LLC.

Description: Franklin Solar LLC submits Notice of Self-Certification of Exempt Wholesale Generator Status.

Filed Date: 3/18/24.

Accession Number: 20240318-5236.

Comment Date: 5 p.m. ET 4/8/24.

Take notice that the Commission received the following Complaints and Compliance filings in EL Dockets:

Docket Numbers: EL24-88-000.

Applicants: Spruce Power Holding Corporation.

Description: Petition for Declaratory Order of Spruce Power Holding Corporation.

Filed Date: 3/14/24.

Accession Number: 20240314-5176.

Comment Date: 5 p.m. ET 4/15/24.

Take notice that the Commission received the following electric rate filings:

Docket Numbers: ER18-194-007; ER18-195-007; EL23-71-002.

Applicants: East Texas Electric Cooperative, Inc., Northeast Texas Electric Cooperative, Inc., Golden Spread Electric Cooperative, Arkansas Electric Cooperative Corporation, American Electric Power Service Corporation, Southwest Power Pool, Inc., American Electric Power Service Corporation, Southwest Power Pool, Inc.

Description: Compliance Filing of AEP Oklahoma Transmission Company, Inc. et al.

Filed Date: 3/18/24.

Accession Number: 20240318-5271.

Comment Date: 5 p.m. ET 4/8/24.

Docket Numbers: ER20-2004-006.

Applicants: Public Service Electric and Gas Company, PJM Interconnection, L.L.C.

Description: Compliance filing: Public Service Electric and Gas Company submits tariff filing per 35: Supplemental Filing re: PSE&G Compliance Filing in ER20-2004 to be effective 8/1/2021.

Filed Date: 3/18/24.

Accession Number: 20240318-5223.

Comment Date: 5 p.m. ET 4/8/24.

Docket Numbers: ER24-20-003.

Applicants: Cottontail Solar 2, LLC.

Description: Compliance filing: Revised Rate Schedule FERC No. 1 to be effective 12/4/2023.

Filed Date: 3/19/24.

Accession Number: 20240319-5142.

Comment Date: 5 p.m. ET 4/9/24.

Docket Numbers: ER24-1559-000.

Applicants: Puget Sound Energy, Inc.

Description: Compliance filing: Order 2023 Compliance—Annexes A and B to be effective 12/31/9998.

Filed Date: 3/18/24.

Accession Number: 20240318-5228.

Comment Date: 5 p.m. ET 4/8/24.

Docket Numbers: ER24-1560-000.

Applicants: DTE Electric Company.

Description: § 205(d) Rate Filing: Wholesale Distribution Service Rate Schedules Update to be effective 1/1/2024.

Filed Date: 3/18/24.

Accession Number: 20240318-5235.

Comment Date: 5 p.m. ET 4/8/24.

Docket Numbers: ER24-1562-000.

Applicants: Otter Tail Power Company.

Description: § 205(d) Rate Filing: Joint Development Agreement Certificate of Concurrence to be effective 2/2/2024.

Filed Date: 3/19/24.

Accession Number: 20240319-5082.

Comment Date: 5 p.m. ET 4/9/24.

Docket Numbers: ER24-1566-000.

Applicants: Happy Jack Windpower, LLC.

Description: Compliance filing: Revised Market-Based Rate Tariff to be effective 3/20/2024.

Filed Date: 3/19/24.

Accession Number: 20240319-5110.

Comment Date: 5 p.m. ET 4/9/24.

Docket Numbers: ER24-1567-000.

Applicants: San Juan Solar 1, LLC.

Description: Initial rate filing: Filing of Shared Facilities Agreement and Request for Waivers to be effective 3/20/2024.

Filed Date: 3/19/24.

Accession Number: 20240319-5125.

Comment Date: 5 p.m. ET 4/9/24.

Docket Numbers: ER24-1568-000.

Applicants: Duke Energy Florida, LLC.

Description: § 205(d) Rate Filing: DEF-SECI-Shady Hills Dynamic Transfer Agmt RS No. 429 to be effective 6/1/2024.

Filed Date: 3/19/24.

Accession Number: 20240319-5130.

Comment Date: 5 p.m. ET 4/9/24.

Docket Numbers: ER24-1569-000.

Applicants: Duke Energy Florida, LLC, Duke Energy Progress, LLC, Duke Energy Carolinas, LLC.

Description: § 205(d) Rate Filing: Duke Energy Florida, LLC submits tariff filing per 35.13(a)(2)(iii: Joint OATT Clean Up Filing 2024 to be effective 11/9/2022.

Filed Date: 3/19/24.

Accession Number: 20240319-5147.

Comment Date: 5 p.m. ET 4/9/24.

Docket Numbers: ER24-1571-000.

Applicants: Tri-State Generation and Transmission Association, Inc.

Description: § 205(d) Rate Filing: Initial Filing of Rate Schedule FERC No. 367 to be effective 2/19/2024.

Filed Date: 3/19/24.

Accession Number: 20240319-5162.

Comment Date: 5 p.m. ET 4/9/24.

Take notice that the Commission received the following public utility holding company filings:

Docket Numbers: PH24-8-000.

Applicants: New Jersey Resources Corporation.

Description: New Jersey Resources Corporation submits FERC-65A Notice of Change in Fact to Waiver Notification.

Filed Date: 3/19/24.

Accession Number: 20240319-5089.

Comment Date: 5 p.m. ET 4/9/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 19, 2024.
Debbie-Anne A. Reese,
Acting Secretary.

[FR Doc. 2024-06261 Filed 3-22-24; 8:45 am]

BILLING CODE 6717-01-P